DEPARTMENT OF AGRICULTURE

Natural Resources Conservation Service

[Docket ID NRCS-2024-0012]

Proposed Revisions to the National Handbook of Conservation Practices for the Natural Resources Conservation Service

AGENCY: Natural Resources Conservation Service, Department of Agriculture (USDA).

ACTION: Notice of availability; request for comments; Reopening of comment period.

SUMMARY: The Natural Resources Conservation Service (NRCS) is reopening the comment period for 30 days due to impacts of recent hurricanes to allow the public to provide comments on the specified conservation practice standards to be revised in the National Handbook of Conservation Practices (NHCP) published on September 24, 2024.

DATES: The comment period for the Notice of availability, request for comments published on September 24, 2024, at 89 FR 77811 is reopened. We will consider comments that we receive by November 24, 2024.

ADDRESSES: We invite you to submit comments in response to this notice. You may submit your comments through one of the methods below:

• Federal eRulemaking Portal: Go to http://www.regulations.gov and search for Docket ID NRCS-2024-0012. Follow the online instructions for submitting comments; or

• Mail or Hand Delivery: Mr. J'Que C. Jones, National Agricultural Engineer, Conservation Engineering Division, NRCS, USDA, 1400 Independence Avenue, South Building, Room 4649, Washington, DC 20250. In your comment, please specify the Docket ID NRCS-2024-0012.

All comments received will be made publicly available on http://www.regulations.gov.

The copies of the proposed revised standards are available through http://www.regulations.gov by accessing Docket No. NRCS-2024-0012.

FOR FURTHER INFORMATION CONTACT: Mr. J'Que C. Jones at (443) 926-6957, or by email at jque.jones@usda.gov. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION: NRCS is reopening the comment period on the Notice of availability, request for comments published on September 24, 2024, (89 FR 77811-77812). The comment period for the original notice closed on October 24, 2024. Based on requests received during the initial comment period, NRCS is providing an additional 30 days to allow the public to comment on the specified conservation practice standards to be revised in the NHCP. This will allow more time for the public to adequately review and provide constructive feedback on the proposed revisions to the conservation practice standards.

Louis Aspey,
Associate Chief, Natural Resources Conservation Service.

[FR Doc. 2024-24512 Filed 10-22-24; 8:45 am]

BILLING CODE 3410-16-P